DEPARTMENT OF COMMERCE

National Oceanic and Atmospheric Administration

RIN 0648-XC137

Marine Mammals; File No. 17324

AGENCY: National Marine Fisheries Service (NMFS), National Oceanic and Atmospheric Administration (NOAA), Commerce.

ACTION: Notice; receipt of application.

SUMMARY: Notice is hereby given that the Georgia Aquarium Inc., 225 Baker Street, Atlanta, GA 30313, has applied in due form for a permit to import eighteen (18) beluga whales (Delphinapterus leucas) for public display purposes.

DATES: Written, telefaxed, or electronic comments must be received on or before October 29, 2012.

ADDRESSES: The application and related documents are available for review online at http://www.nmfs.noaa.gov/pr/permits/georgia_aquarium_belugas.htm or upon written request or by appointment in the following offices:

Permits and Conservation Division, Office of Protected Resources, NMFS, 1315 East-West Highway, Room 13705, Silver Spring, MD 20910; phone (301)427-8401; fax (301)713-0376; and

Southeast Region, NMFS, 263 13th Avenue South, Saint Petersburg, FL 33701; phone (727)824-5312; fax (727)824-5309.

You may submit comments on this document, identified by NOAA-NMFS-2012-0158, by any of the following methods:

• Electronic Submission: Submit all electronic public comments via the Federal e-Rulemaking Portal www.regulations.gov. To submit comments via the e-Rulemaking Portal, enter NOAA-NMFS-2012-0158 in the keyword search. Locate the document you wish to comment on from the resulting list and click on the “Comment Now” icon on the right of that line.

• Mail: Submit written comments to Chief, Permits and Conservation Division, at the address listed above.

• Fax: (301)713-0376; Attn: Jennifer Skidmore.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

NMFS will hold a public meeting to inform interested parties of the permitting process and solicit comments on the application and accompanying draft environmental assessment. The meeting will be held on October 12, 2012, from 2 p.m. to 5 p.m. The meeting will be held at the NOAA Silver Spring Metro Center Complex, NOAA Science Center, 1301 East-West Highway, Silver Spring, MD 20910. This meeting is accessible to people with disabilities. Requests for sign language interpretation or other auxiliary aids should be directed to Jennifer Skidmore, (301)427-8401 (voice) or (301)713-0376 (fax), at least five days before the scheduled meeting date.

FOR FURTHER INFORMATION CONTACT: Jennifer Skidmore or Kristy Beard, (301)427-8401.

SUPPLEMENTARY INFORMATION: The subject permit is requested under the authority of the Marine Mammal Protection Act of 1972, as amended (MMPA; 16 U.S.C. 1361 et seq.) and the regulations governing the taking and importing of marine mammals (50 CFR part 216).

Georgia Aquarium requests authorization to import 18 wild caught beluga whales from the Utrish Marine Mammal Research Station in Russia to the United States for the purpose of public display. All 18 beluga whales were collected in Sakhalin Bay of the Sea of Okhotsk in 2006, 2010, and 2011. Approximately six (6) animals would be transported to the Georgia Aquarium facility in Atlanta, GA, and the remaining animals would be transported to four other U.S. partner facilities; Sea World of Florida, Sea World of Texas, Sea World of California, and Shedd Aquarium pursuant to breeding loans. Georgia Aquarium and its U.S. partners are: (1) Open to the public on regularly scheduled basis with access that is not limited or restricted other than by charging for an admission fee; (2) offer conservation and educational programs based on professionally accepted standards of the Alliance of Marine Mammal Parks and Aquariums and the Association of Zoos and Aquariums; and (3) hold Exhibitor's Licenses by the U.S. Department of Agriculture under the Animal Welfare Act (7 U.S.C. 2131-59).

In addition to determining whether the applicant meets the three public display criteria, NMFS must determine whether the applicant has demonstrated that the proposed activity is humane and does not represent any unnecessary risks to the health and welfare of marine mammals; that the proposed activity by itself, or in combination with other activities, will not likely have a significant adverse impact on the species or stock; and that the applicant's expertise, facilities and resources are adequate to accomplish successfully the objectives and activities stated in the application.

A draft environmental assessment (EA) has been prepared in compliance with the National Environmental Policy Act of 1969 (42 U.S.C. 4321 et seq.), to examine whether significant environmental impacts could result from issuance of the proposed permit. The draft EA is available for review and comment simultaneous with the permit application.

Concurrent with the publication of this notice in the Federal Register, NMFS is forwarding copies of the application to the Marine Mammal Commission and its Committee of Scientific Advisors.

Dated: August 27, 2012.
P. Michael Payne,
Chief, Permits and Conservation Division, Office of Protected Resources, National Marine Fisheries Service.

[FR Doc. 2012-21481 Filed 8-29-12; 8:45 am]

BILLING CODE 3510-22-P